DEPARTMENT OF AGRICULTURE

Rural Utilities Service

7 CFR Parts 1710, 1717, 1721, 1724, and 1730

RIN 0572-AC19

Energy Efficiency and Conservation Loan Program

AGENCY: Rural Utilities Service, USDA.

ACTION: Notice of Proposed Rulemaking; correction.

SUMMARY: The Rural Utilities Service (RUS) published a document in the Federal Register on July 26, 2012, proposing policies and procedures for loan and guarantee financial assistance in support of energy efficiency programs (EE Programs) sponsored and implemented by electric utilities for the benefit of rural persons in their service territory. The comment period closing date was incorrect.

FOR FURTHER INFORMATION CONTACT: Michele Brooks, USDA-Rural Utilities Service, 1400 Independence Avenue SW., Stop 1522, Washington, DC 20250-1522, telephone (202) 690-1078 or email to michele.brooks@wdc.usda.gov.

Correction

In the Federal Register of July 26, 2012, in FR Doc. 2012-17784, on page 43723, in the first column, under the heading “DATES,” the date should read September 26, 2012.

Dated: August 29, 2012.
Jonathan Adelstein,
Administrator, Rural Utilities Service.

[FR Doc. 2012-21779 Filed 9-5-12; 8:45 am]

BILLING CODE P